UNIFIED CARRIER REGISTRATION PLAN

Sunshine Act Meetings

TIME AND DATE: October 3, 2024, 1:00 p.m. to 3:00 p.m., Eastern Time.

PLACE: The meeting will take place at the Arizona Grand Resort and Spa, 8000 South Arizona Grand Parkway, Phoenix, Arizona 85044. This meeting will be accessible via conference call and via Zoom Meeting and Screenshare. Any interested person may call (i) 1-929-205-6099 (US Toll) or 1-669-900-6833 (US Toll), Meeting ID: 938 2658 1402, to listen and participate in this meeting. The website to participate via Zoom Meeting and Screenshare is https://kellen.zoom.us/meeting/register/tJclde-tpjouGtZBhtZXQRZzt1OGFp3rLJEK.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—UCR Finance Subcommittee Chair

The UCR Finance Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Finance Subcommittee Chair

For Discussion and Possible Subcommittee Action

The agenda will be reviewed, and the Subcommittee will consider adoption of the agenda.

Ground Rules

Subcommittee action only to be taken in designated areas on agenda.

IV. Review and Approval of Subcommittee Minutes From the July 17, 2024, Meeting—UCR Finance Subcommittee Chair

For Discussion and Possible Subcommittee Action

Draft minutes from the July 17, 2024, Subcommittee meeting will be reviewed. The Subcommittee will consider action to approve.

V. 2026 Registration Fee Update—UCR Finance Subcommittee Chair

The UCR Finance Subcommittee Chair will provide an update on the 2026 registration fees.

VI. Revenues From 2023 and 2024 Registration Fees—UCR Depository Manager

The UCR Depository Manager will review the revenues received from the 2023 and 2024 plan year registration fees.

VII. 2022 Financial Audit Update—UCR Finance Subcommittee Chair and UCR Depository Manager

The UCR Finance Subcommittee Chair and UCR Depository Manager will provide an update on UCR's 2022 Financial Audit.

VIII. Recommendation of the Finance Subcommittee for the Selection of External Auditor To Audit the Unified Carrier Registration Plan Depository for the Year Ended December 31, 2023—UCR Finance Subcommittee Chair and UCR Depository Manager

For Discussion and Possible Action

The UCR Finance Subcommittee Chair and UCR Depository Manager will provide an update on the selection of an audit firm to conduct the 2023 external audit. The Subcommittee may take action to recommend to the UCR Board the engagement of a specific external auditor to audit the Unified Carrier Registration Plan Depository for the year ended December 31, 2023.

IX. 2025 Administrative Fund Budget—UCR Finance Subcommittee Chair and UCR Depository Manager

For Discussion and Possible Subcommittee Action

The UCR Finance Subcommittee Chair and Depository Manager will discuss the 2025 proposed administrative fund budget. The Subcommittee may take action to recommend to the UCR Board a 2025 administrative fund budget.

X. Other Business—UCR Finance Subcommittee Chair

The UCR Finance Subcommittee Chair will call for any other items Subcommittee members would like to discuss.

XI. Adjourn—UCR Finance Subcommittee Chair

The UCR Finance Subcommittee Chair will adjourn the meeting.

The agenda will be available no later than 5:00 p.m. Eastern time, September 25, 2024 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-22550 Filed 9-26-24; 4:15 pm]

BILLING CODE 4910-YL-P